DEPARTMENT OF AGRICULTURE

Rural Housing Service

Notice of Availability of Funding and Requests for Proposals for Guaranteed Loans Under the Section 538 Guaranteed Rural Rental Housing Program; Correction

AGENCY: Rural Housing Service, USDA.

ACTION: Correction.

SUMMARY: The Rural Housing Service (RHS) corrects a notice published December 26, 2000 (65 FR 81650-81656). This action is taken to correct the point scoring of the selection criteria in paragraph VIII(A), (B), and (E). This action is being taken so that interest credit requests may be scored as they are received, on an individual basis, to determine if the threshold criteria of 70 points have been met.

Accordingly, the notice published December 26, 2000, (65 FR 81650-81656), is corrected as follows:

On page 81655, in the second column, Item VIII(A), the third sentence, “The proposals will be given a point score starting with the project located in the area with the lowest population receiving 20 points, the next 19 points and so forth, until up to 20 projects have received points.” should read “Population points will be awarded as follows:

Population | Points
Less than 10,000 | 20
10,001-14,999 | 15
15,000-16,999 | 5
17,000-20,000 | 0

On page 81655, in the third column, Item VIII(B), the second sentence, “The proposals will be given a point score starting with the community having the lowest median income receiving 20 points, the next 19 points and so forth until up to 20 proposals have received points.” should read “Median income points will be awarded as follows:

Median income (dollars) | Points
Less than 25,000 | 20
25,000-29,999 | 15
30,000-34,999 | 10
35,000-40,000 | 5
More than 40,000 | 0

On page 81656, in the first column, Item VIII(E), the second sentence, “The proposals will be ranked in order of this percentage with the proposal with the highest percent receiving 20 points, the next 19 points and so forth until up to 20 projects have received points.” should read “Percentage of 3-5 bedroom points will be awarded as follows:

Percentage of 3-5 bedrooms | Points
100 | 20
At least 75 | 15
At least 50 | 10
At least 25 | 5
Less than 25 | 0

Dated: February 2, 2001.
Obediah G. Baker, Jr.,
Acting Administrator, Rural Housing Service.

[FR Doc. 01-3969 Filed 2-15-01; 8:45 am]

BILLING CODE 3410-XV-P